DEPARTMENT OF LABOR

Employment and Training Administration

[TA-W-54,020]

Tri Star Precision, Inc., Gilberts, IL; Notice of Termination of Investigation

Pursuant to section 221 of the Trade Act of 1974, as amended, an investigation was initiated on January 15, 2004 in response to a petition filed by a company official on behalf of workers at Tri Star Precision, Inc., Gilberts, Illinois.

The petitioner has requested that the petition be withdrawn. Consequently, the investigation has been terminated.

Signed at Washington, DC this 23rd day of January, 2004.
Elliott S. Kushner,
Certifying Officer, Division of Trade Adjustment Assistance.

[FR Doc. 04-3314 Filed 2-13-04; 8:45 am]

BILLING CODE 4510-30-P